DEPARTMENT OF COMMERCE

National Oceanic and Atmospheric Administration

[I.D. 042400C]

Fisheries Certificate of Origin; Proposed Information Collection; Request for Comments

AGENCY: National Oceanic and Atmospheric Administration.

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 26, 2000.

ADDRESSES: Direct all written comments to Linda Engelmeier, Departmental Forms Clearance Officer, Department of Commerce, Room 5027, 14th and Constitution Avenue NW, Washington DC 20230 (or via Internet at lengelme@doc.gov).

FOR FURTHER INFORMATION CONTACT: Requests for additional information or copies of the information collection instrument(s) and instructions should be directed to Patricia J. Donley, National Marine Fisheries Service, Southwest Region, 501 West Ocean Blvd., Suite 4200, Long Beach, CA 90802 (562-980-4033 or pat.donley@noaa.gov).

SUPPLEMENTARY INFORMATION:

I. Abstract

The purpose of this collection of information is to comply with the requirements of the International Dolphin Conservation Program Act (IDCPA) amendments to the Marine Mammal Protection Act (MMPA). IDCPA regulations require the submission of documentary evidence that shipments of tuna or certain other fish products entering the United States were captured, processed, and labeled in accordance with the requirements of the Act, and that the shipments originated from nations legally eligible under the Act to export such products to the U.S. The collection serves three purposes: (1) documents the dolphin-safe status of tuna import shipments as well as domestic deliveries of tuna by U.S.-flag tuna purse seine vessels; (2) verifies that import shipments of fish were not harvested by large-scale, high-seas driftnets; and(3) verifies that tuna was not harvested by a nation under embargo or otherwise prohibited from exporting tuna and tuna products to the United States.

II. Method of Collection

Forms are submitted by foreign exporters or domestic importers for shipments entering the United States. Forms may also be submitted by domestic tuna processors or tuna fishing vessel owners to report the dolphin-safe status of their catch. Forms must be accompanied by statements signed by vessel Captains, fishing observers, or representatives of exporting nations that attest to the dolphin-safe status of the shipment.

III. Data

OMB Number: 0648-0335.

Form Number: NOAA Form 370.

Type of Review: Regular submission.

Affected Public: Business and other for-profit institutions (Importers, exporters, brokers, tuna processors, tuna purse seine vessel Captains and owners, and tuna fishery observers).

Estimated Number of Respondents: 350.

Estimated Time Per Response: 20 minutes for processors, importers, and exporters, 5 minutes for vessel Captains and fishing observers.

Estimated Total Annual Burden Hours: 1,033.

Estimated Total Annual Cost to Public: $100.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 20, 2000.
Linda Engelmeier,
Departmental Forms Clearance Officer, Office of the Chief Information Officer.

[FR Doc. 00-10512 Filed 4-26-00; 8:45 am]

BILLING CODE 3510-22-F